DEPARTMENT OF THE INTERIOR

Minerals Management Service

Preparation of an Environmental Assessment (EA) for Proposed Outer Continental Shelf (OCS) Oil and Gas Lease Sale 215 in the Western Gulf of Mexico Planning Area (2010)

AGENCY: Minerals Management Service, Interior.

ACTION: Notice of Preparation (NOP) of an EA.

SUMMARY: The purpose of the NOP is to gather information on oil and gas leasing, exploration, and development that might result from an OCS oil and gas lease sale tentatively scheduled for mid-2010.

DATES: Comments must be received no later than October 9, 2009 at the address specified below.

FOR FURTHER INFORMATION CONTACT: For information on the NOP, you may contact Mr. Gary Goeke, Gulf of Mexico OCS Region, 1201 Elmwood Park Boulevard, New Orleans, Louisiana 70123-2394, telephone (504) 736-3233.

Notice of Preparation of an Environmental Assessment

1. Authority

This NOP is published pursuant to the regulations (40 CFR 1501.7) implementing the provisions of NEPA of 1969 as amended (42 U.S.C. 4321 et seq. (1988)).

2. Purpose of Notice of Preparation

Pursuant to the regulations implementing the procedural provisions of NEPA, the MMS is announcing its intent to prepare an EA on an oil and gas lease sale tentatively scheduled for mid-2010 in the Western Planning Area (WPA) offshore of Texas and western Louisiana. The MMS is issuing this notice to facilitate public involvement. The preparation of this EA is an important step in the decision process for Lease Sale 215. The proposal for Lease Sale 215 was analyzed in the Gulf of Mexico OCS Oil and Gas Lease Sales: 2009-2012; Central Planning Area Sales 208, 213, 216, and 222; Western Planning Area Sales 210, 215, and 218—Final Supplemental Environmental Impact Statement (Supplemental EIS, OCS EIS/EA MMS 2008-041). This EA for proposed Lease Sale 215 will examine the potential environmental effects of the proposed lease sale and its alternatives (i.e., excluding the unleased blocks near biologically sensitive topographic features; and no action) based on changes and any new relevant information and circumstances regarding potential environmental impacts and issues that were not available at the time the Supplemental EIS was prepared to determine if preparation of a new supplemental EIS is warranted.

3. Supplemental Information

Final delineation of this area for possible leasing will be made at a later date and in compliance with applicable laws, including all requirements of National Environmental Policy Act (NEPA), Coastal Zone Management Act (CZMA) and Outer Continental Shelf Lands Act (OCSLA) and other applicable statutes. Established Departmental procedures will be followed.

The MMS routinely assesses the status of information acquisition efforts and the quality of the information base for potential decisions on a tentatively scheduled lease sale. An extensive environmental studies program has been under way in the Gulf of Mexico (GOM) since 1973. The emphasis, including continuing studies, has been on “environmental analysis” of biologically sensitive habitats, physical oceanography, ocean-circulation modeling, ecological effects of oil and gas activities, and hurricane impacts on coastal communities and the environment.

Federal regulations allow for several related or similar proposals to be analyzed in one EIS (40 CFR 1502.4). Each proposed lease sale and its projected activities are very similar each year for each planning area. The Multisale EIS (OCS EIS/EA MMS 2007-018) addressed WPA Lease Sale 204 in 2007, Sale 207 in 2008, Sale 210 in 2009, Sale 215 in 2010, and Sale 218 in 2011; and Central Planning Area (CPA) Lease Sale 205 in 2007, Sale 206 in 2008, Sale 208 in 2009, Sale 213 in 2010, Sale 216 in 2011, and Sale 222 in 2012. However, the Gulf of Mexico Energy Security Act of 2006 repealed the Congressional moratorium on approximately 5.8 million acres located in the southeastern part of the CPA. Therefore, it was necessary to prepare additional NEPA documentation to address the MMS proposal to expand the CPA by the 5.8 million acre area. A single Supplemental Multi-sale EIS was prepared for the remaining seven WPA and CPA lease sales scheduled in the OCS Oil and Gas Leasing Program: 2007-2012 (5-Year Program). In September 2008, MMS published a Supplemental Multi-sale EIS (OCS EIS/EA MMS 2008-041) that addressed seven proposed Federal actions that would offer for lease areas on the GOM OCS that may contain economically recoverable oil and gas resources.

After completion of this EA, MMS will determine whether to prepare a Finding of No Significant Impact (FONSI) or a Supplemental EIS for Sale 215 and subsequent sales. The MMS prepares a Consistency Determination (CD) to determine whether the lease sale is consistent with each affected State's federally-approved Coastal Zone Management program. Finally, MMS will solicit comments via the Proposed Notice of Sale (NOS) from the governors of the affected States on the size, timing, and location of the lease sale. The tentative schedule for the prelease decision process for Lease Sale 215 is as follows: EA/FONSI or Supplemental EIS decision, March-April 2010; CDs will be sent to the affected States 5 months before the lease sale; Proposed NOS sent to the governors of the affected States 5 months before the lease sale; Final NOS, if applicable, will be published in the Federal Register in July 2010.

4. Comments

Federal, State, and local government agencies, and other interested parties are requested to send their written comments on the EA, significant issues that should be addressed, and alternatives that should be considered in one of the following two ways:

1. In written form enclosed in an envelope labeled “Comments on the Lease Sale 215 EA” and mailed (or hand carried) to the Regional Supervisor, Leasing and Environment (MS 5410), Minerals Management Service, Gulf of Mexico OCS Region, 1201 Elmwood Park Boulevard, New Orleans, Louisiana 70123-2394.

2. Electronically to the MMS e-mail address: WPALeaseSale215@mms.gov.

Comments should be submitted no later than 30 days from the publication of this NOP.

Dated: August 24, 2009.
S. Elizabeth Birnbaum,
Director, Minerals Management Service.

[FR Doc. E9-21670 Filed 9-8-09; 8:45 am]

BILLING CODE 4310-MR-P